NUCLEAR REGULATORY COMMISSION

[Docket Nos. 52-025 and 52-026; NRC-2008-0252]

Southern Nuclear Operating Company, Inc.; Vogtle Electric Generating Plant, Units 3 and 4; Tornado Missile Protection for Main Steam Vent Stacks and Wall 11

AGENCY: Nuclear Regulatory Commission.

ACTION: Combined license amendment; issuance.

SUMMARY: The U.S. Nuclear Regulatory Commission (NRC) is issuing License Amendment No. 178 for Unit 3 and No. 177 for Unit 4 to Combined Licenses (COLs), NPF-91 and NPF-92. The COLs were issued to Southern Nuclear Operating Company, Inc., and Georgia Power Company, Oglethorpe Power Corporation, MEAG Power SPVM, LLC, MEAG Power SPVJ, LLC, MEAG Power SPVP, LLC, and the City of Dalton, Georgia (collectively, the licensees, for which SNC has the authority to represent the licensees), for construction and operation of the Vogtle Electric Generating Plant (VEGP) Units 3 and 4, located in Burke County, Georgia.

DATES: The amendments were issued on April 23, 2020.

ADDRESSES: Please refer to Docket ID NRC-2008-0252 when contacting the NRC about the availability of information regarding this document. You may obtain publicly-available information related to this document using any of the following methods:

• Federal Rulemaking Website: Go to https://www.regulations.gov and search for Docket ID NRC-2008-0252. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The request for the amendment was submitted by letter dated August 16, 2019, and supplemented February 14, 2020, and available in ADAMS under Accession Nos. ML19228A241 and ML20045D590, respectively.

FOR FURTHER INFORMATION CONTACT: Billy Gleaves, Office of Nuclear Reactor Regulation, U.S. Nuclear Regulatory Commission, Washington, DC 20555-0001; telephone: 301-415-5848; email: Bill.Gleaves@nrc.gov.

SUPPLEMENTARY INFORMATION:

I. Introduction

The NRC is issuing VEGP Units 3 and 4 License Amendment Nos. 178 and 177 to COLs NPF-91 and NPF-92, respectively. With the requested amendments, SNC proposed changes to the description and analysis in the Updated Final Safety Analysis Report (UFSAR) of the auxiliary building main steam safety valve (MSSV) vent stack openings and the auxiliary building Wall 11 openings for protection from tornado-generated missiles for both units. SNC stated that the changes include the evaluation of horizontal missiles targeting the MSSV vent stacks, the evaluation of vertical missiles targeting the MSSV vent stack openings, and the evaluation of missiles targeting the auxiliary building Wall 11 openings. SNC stated that the evaluations demonstrate that the tornado missiles will not prevent safe shutdown and will not result in an offsite release exceeding the limits defined in title 10 of the Code of Federal Regulations (10 CFR) 50.34.

SNC indicated that the requested amendment requires changes to the licensing basis documents for VEGP Units 3 and 4 in the form of departures from the plant-specific Design Control Document (DCD) Tier 2 information as incorporated into the UFSAR. SNC stated that no change was made to Tier 1, Tier 2*, or COL information; that this change involves a revision to plant-specific Tier 2 information that meets the criteria for a license amendment under 10 CFR part 52, appendix D, Section VIII.B.5.b(8), in that it was determined that the proposed change would result in a departure from a method of evaluation described in the plant-specific DCD used in establishing the design bases or in the safety analyses, and thus requires NRC approval for the Tier 2 departures.

II. License Amendment Request

By letter dated August 16, 2019, and supplemented February 14, 2020, available in ADAMS under Accession Nos. ML19228A241 and ML20045D590, respectively, SNC requested that the NRC amend the COLs for VEGP, Units 3 and 4, COLs NPF-91 and NPF-92. The proposed amendment is described in Section I of this Federal Register notice.

As documented in an SE dated April 23, 2020 (ADAMS Accession No. ML20050L183), the Commission has determined for these amendments that the application complies with the standards and requirements of the Atomic Energy Act of 1954, as amended (the Act), and the Commission's rules and regulations. The Commission has made appropriate findings as required by the Act and the Commission's rules and regulations in 10 CFR chapter I, which are set forth in the license amendments.

A notice of consideration of issuance of amendment to facility operating license or COL, as applicable, proposed no significant hazards consideration determination, and opportunity for a hearing in connection with these actions, was published in the Federal Register on October 22, 2019 (84 FR 56478). No comments were received during the 30-day comment period.

As documented in the SE, the Commission has determined that these amendments satisfy the criteria for categorical exclusion in accordance with 10 CFR 51.22. Therefore, pursuant to 10 CFR 51.22(b), no environmental impact statement or environmental assessment need be prepared for these amendments.

III. Conclusion

Using the reasons set forth in the combined SE, the staff approved the amendment and it was issued to SNC on April 23, 2020, as part of a combined package (ADAMS Package Accession No. ML20050J685).

Dated: May 5, 2020.
For the Nuclear Regulatory Commission.
Victor E. Hall,
Chief, Vogtle Project Office Branch, Office of Nuclear Reactor Regulation.

[FR Doc. 2020-09894 Filed 5-7-20; 8:45 am]

BILLING CODE 7590-01-P